DEPARTMENT OF ENERGY

Federal Energy Regulatory Commission

Combined Notice of Filings #1

Take notice that the Commission received the following electric corporate filings:

Docket Numbers: EC24-50-000.

Applicants: GC PGR Holdco, LLC, PGR Holdco, LLC, Healthcare of Ontario Pension Plan Trust Fund.

Description: Informational Report of Percentage of Issued and Outstanding Shares of PGR Holdco, LLC, et al.

Filed Date: 4/5/24.

Accession Number: 20240405-5270.

Comment Date: 5 p.m. ET 4/11/24.

Docket Numbers: EC24-68-000.

Applicants: Blue Harvest Solar Park LLC, Fern Solar LLC, Hecate Energy Desert Storage 1 LLC, Hecate Energy Johanna Facility LLC, Innovative Solar 42, LLC, Jicarilla Solar 1 LLC, Jicarilla Solar 2 LLC, Jicarilla Storage 1 LLC, Ortega Grid, LLC, San Jacinto Grid, LLC, Strauss Wind, LLC, Timber Road Solar Park LLC.

Description: Joint Application for Authorization Under Section 203 of the Federal Power Act of Blue Harvest Solar Park LLC, et al.

Filed Date: 4/8/24.

Accession Number: 20240408-5285.

Comment Date: 5 p.m. ET 4/29/24.

Take notice that the Commission received the following electric rate filings:

Docket Numbers: ER24-1179-001.

Applicants: Midcontinent Independent System Operator, Inc.

Description: Tariff Amendment: 2024-04-09_Deficiency Response to Att X, Appendix 6-Inverter Based Resources to be effective 4/2/2024.

Filed Date: 4/9/24.

Accession Number: 20240409-5090.

Comment Date: 5 p.m. ET 4/30/24.

Docket Numbers: ER24-1719-000.

Applicants: Xcel Energy Services Inc.

Description: Petition for Limited Waiver of Northern States Power Company.

Filed Date: 4/8/24.

Accession Number: 20240408-5279.

Comment Date: 5 p.m. ET 4/29/24.

Docket Numbers: ER24-1720-000.

Applicants: NorthWestern Corporation.

Description: Baseline eTariff Filing: New Baseline—Rate Schedules to be effective 4/9/2024.

Filed Date: 4/9/24.

Accession Number: 20240409-5073.

Comment Date: 5 p.m. ET 4/30/24.

Docket Numbers: ER24-1721-000.

Applicants: Tri-State Generation and Transmission Association, Inc.

Description: § 205(d) Rate Filing: Initial Filing of Rate Schedule FERC No. 368 to be effective 3/12/2024.

Filed Date: 4/9/24.

Accession Number: 20240409-5103.

Comment Date: 5 p.m. ET 4/30/24.

Docket Numbers: ER24-1722-000.

Applicants: Public Service Company of Colorado.

Description: § 205(d) Rate Filing: 2024-04-09 TSGT Fox Run Bndry Meter Agrmt Amnd 1—743-0.1.0. to be effective 6/9/2024.

Filed Date: 4/9/24.

Accession Number: 20240409-5115.

Comment Date: 5 p.m. ET 4/30/24.

Docket Numbers: ER24-1723-000.

Applicants: Puget Sound Energy, Inc.

Description: § 205(d) Rate Filing: Powerex P-T-P SA-5012 to be effective 4/1/2024.

Filed Date: 4/9/24.

Accession Number: 20240409-5171.

Comment Date: 5 p.m. ET 4/30/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 9, 2024.
Debbie-Anne A. Reese,
Acting Secretary.

[FR Doc. 2024-07906 Filed 4-12-24; 8:45 am]

BILLING CODE 6717-01-P